FEDERAL COMMUNICATIONS COMMISSION

[Report No. 2511]

Petition for Reconsideration of Action in Rulemaking Proceeding

October 29, 2001.

Petition for Reconsideration has been filed in the Commission's rulemaking proceeding listed in this Public Notice and published pursuant to 47 CFR Section 1.429(e). The full text of this document is available for viewing and copying in Room CY-A257, 445 12th Street, SW., Washington, DC or may be purchased from the Commission's copy contractor, Qualex International (202) 863-2893. Oppositions to this petition must be filed by November 19, 2001. See section 1.4(b)(1) of the Commission's rules (47 CFR 1.4(b)(1)). Replies to an opposition must be filed within 10 days after the time for filing oppositions has expired.

SUBJECT: Amendment of section 2.106 of the Commission's Rules to Allocate Spectrum at 2 GHz for Use By the Mobile-Satellite Service (ET Docket No. 95-18)

In the Matter of establishment of Policies and Service Rules for the Mobile Satellite Service in the 2 GHz Band (IB Docket No 99-81)

In the Matter of New Advanced Mobile and Fixed Terrestrial Services; Use of Frequencies Below 3 GHz (ET Docket No. 00-258)

Number of petitions filed: 1.

Magalie Roman Sales,
Secretary.

[FR Doc. 01-27488 Filed 11-1-01; 8:45 am]

BILLING CODE 6712-01-M